DEPARTMENT OF THE INTERIOR

Bureau of Indian Affairs

Notice of Availability of the Final Environmental Impact Statement for the Section 14 Specific Plan on the Agua Caliente Indian Reservation, Riverside County, CA

AGENCY: Bureau of Indian Affairs, Interior.

ACTION: Notice.

SUMMARY: This notice advises the public that the Bureau of Indian Affairs (BIA) intends to file a Final Environmental Impact Statement (FEIS) for the proposed Section 14 Master Development Plan on the Agua Caliente Indian Reservation located within the boundaries of the City of Palm Springs, Riverside County, California, with the U.S. Environmental Protection Agency, and that the FEIS is available for final public review. Details on the proposed action, location and areas of environmental concern addressed in the FEIS are provided below in the SUPPLEMENTARY INFORMATION section.

DATES: Written comments on the FEIS must arrive by September 28, 2002. The Record of Decision will be issued on or after September 30, 2002.

ADDRESSES: You may mail or hand carry written comments to Ronald Jaeger, Regional Director, Bureau of Indian Affairs, Pacific Regional Office, 2800 Cottage Way, Sacramento, California 95825-1846. Please include your name, return address and the caption, “FEIS Comments, Section 14 Master Plan, Riverside County, California,” on the first page of your written comments.

Copies of the FEIS have been sent to all agencies and individuals who participated in the scoping process or public hearings and to those who requested copies. To obtain a copy of the FEIS, please write or call William Allan, Environmental Protection Specialist, Pacific Region, Bureau of Indian Affairs, 2800 Cottage Way, Sacramento, California 95825-1846, telephone (916) 978-6043. Copies of the FEIS are also available in the Agua Caliente Tribal Administration Office, 650 East Tahquitz Canyon Way, Palm Springs, California 92262.

FOR FURTHER INFORMATION CONTACT: William Allan, (916) 978-6043, or Michael Atencio, (760) 325-3400, extension 207.

SUPPLEMENTARY INFORMATION: The proposed project is the approval of the Section 14 Master Development Plan, which facilitates approval of future leases on trust land in Section 14 by the BIA. Section 14 is located on the Agua Caliente Indian Reservation in downtown Palm Springs. It is comprised of tribally owned parcels, allotted parcels and parcels owned in fee. The section is bounded by Alejo Road to the north, Sunrise Road to the east, Ramon Road to the south, and Indian Canyon Drive to the west. The 640-acre section is one block east of downtown Palm Springs and one mile west of Palm Springs Regional Airport.

The intent of the Section 14 Master Development Plan is to:

• Create an attractive, feasible and marketable vision for the area's future development;

• Achieve the highest and best use of Indian trust lands;

• Maximize and coordinate the development potential of Indian trust and fee lands in Section 14;

• Ensure compatibility with existing, proposed and planned development in the downtown area;

• Achieve a comprehensive master plan of development that is high quality, marketable and able to be implemented in a timely manner;

• Revitalize existing uses; and

• Provide a specific plan that ensures quality development will occur independent of ownership.

Businesses that are expected to be attracted and which will result in new construction include restaurants and various retail establishments. These establishments will consist of cinemas, live theaters, museums, and “entertainment retail” shopping where customers are entertained as they browse. There will also be health, sports and recreational complexes along with a large-scale hotel located across from the existing Convention Center.

In addition to the new development, existing structures will receive facade rehabilitation in order to blend in with the new destination resort theme of Section 14. Streets will also be redesigned and enhanced within Section 14 to promote a pedestrian-friendly, destination resort environment.

Alternative transportation modes will be established within the area to help limit the amount of automobile traffic. Walkways and bikeways will be linked into the existing street grid and the major attractions of the area. Shade features such as awnings, overhangs and trellises will be established to attract both recreational and destination oriented pedestrians and cyclists. A rubber-tire shuttle will be installed linking Section 14, the airport and downtown with stops at major hotels and attractions.

Alternatives to the proposed project that are considered in the FEIS include (1) no action, which will keep the City of Palm Springs General Plan in effect, (2) reduced intensity development; and (3) increased intensity development. Environmental issues addressed in the FEIS include landform/topography, geology/soils/seismicity, hydrology/water quality, biological resources, land use, cultural and scientific resources, air quality, traffic/circulation, noise, health and safety, public services and utilities, and visual resources.

Public Comment Availability

Comments, including names and addresses of respondents, will be available for public review at the mailing address shown in the ADDRESSES section, during regular business hours, 9 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR, part 1500 through 1508) implementing the procedural requirements of the National Environmental Policy Act of 1969, as amended (42 U.S.C. 4371 et seq.), and the Department of the Interior Manual (516 DM 1-6), and is in the exercise of authority delegated to the Assistant Secretary—Indian Affairs by 209 DM 8.

Dated: August 7, 2002.
Neal A. McCaleb,
Assistant Secretary—Indian Affairs.

[FR Doc. 02-21967 Filed 8-27-02; 8:45 am]

BILLING CODE 4310-W7-P